DEPARTMENT OF AGRICULTURE

Submission for OMB Review; Comment Request

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by September 28, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: USDA Web Based Supply Chain Management System (WBSCM).

OMB Control Number: 0581-0273.

Summary of Collection: Section 32 of the Act of August 24, 1935, as amended (sec. 32, Public Law 74-320; 7 U.S.C. 612c); sections 6(a) and (e), 13, and 17 of the National School Lunch Act, as amended, (42 U.S.C. 1751, 1761, and 1766) in addition to several other acts authorize the Agricultural Marketing Service (AMS) Procurement Branches to prepare and issue announcements for the purchase and sale of perishable agricultural commodities. AMS purchases agricultural commodities for the Section 32 and 6a & e National School Lunch Program/Child & Adult Care Food Program; Nutrition Service Incentive Program; Food Distribution Program on Indian Reservations; Commodity Supplemental Food Program; The Emergency Food Assistance Program and Disaster Feeding in addition to providing support for commodity markets with surplus inventory.

Need and Use of the Information: AMS issues solicitation for offers in order to solicit bids for commodities and transportation costs for delivery to domestic and international nutrition assistance programs. Vendors respond by making electronic offers using the secure Web Based Supply Chain Management System (WBSCM) https://portal.wbscm.usda.gov. Vendors must be registered to submit bids electronically through WBSCM via the internet. The information will change in response to the needs of the feeding programs and each solicitation. It is necessary to collect the information recorded on the offer screens to determine who the successful bidder is under solicitations to purchase products and services.

Description of Respondents: Business or other for profit; Farms.

Number of Respondents: 500.

Frequency of Responses: Reporting: On occasion; Weekly; Monthly; Quarterly.

Total Burden Hours: 50,399.

Rachelle Ragland-Greene,
Departmental Information Collection Officer.

[FR Doc. 2025-07158 Filed 4-24-25; 8:45 am]

BILLING CODE 3410-02-P